DEPARTMENT OF TRANSPORTATION

Federal Motor Carrier Safety Administration

[Docket No. FMCSA-2010-0372]

Qualification of Drivers; Exemption Applications; Vision

AGENCY: Federal Motor Carrier Safety Administration (FMCSA), DOT.

ACTION: Notice of applications for exemptions; request for comments.

SUMMARY: FMCSA announces receipt of applications from 19 individuals for exemption from the vision requirement in the Federal Motor Carrier Safety Regulations. If granted, the exemptions would enable these individuals to qualify as drivers of commercial motor vehicles (CMVs) in interstate commerce without meeting the Federal vision standard.

DATES: Comments must be received on or before March 14, 2011.

ADDRESSES: You may submit comments bearing the Federal Docket Management System (FDMS) Docket No. FMCSA-2010-0372 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 19 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

James L. Acree

Mr. Acree, age 56, has had chronic open angle glaucoma in his left eye since 2006. The best corrected visual acuity in his right eye is 20/20 and in his left eye, 20/200. Following an examination in 2010, his optometrist noted, “In my professional opinion, Mr. Acree has sufficient vision to perform the driving tasks required to operate a commercial vehicle.” Mr. Acree reported that he has driven straight trucks for 20 years, accumulating 300,000 miles and tractor-trailer combinations for 17 ½; years accumulating 2.6 million miles. He holds a Class A Commercial Driver's License (CDL) from Georgia. His driving record for the last 3 years shows no crashes and no convictions for moving violations in a CMV.

Tracey M. Baucom

Mr. Baucom, 37, has had refractive amblyopia in his left eye since childhood. The visual acuity in his right eye is 20/25 and in his left eye, 20/400. Following an examination in 2010, his optometrist noted, “In my medical opinion, Mr. Tracey Baucom has demonstrated that he has sufficient vision to drive and operate commercial vehicle.” Mr. Baucom reported that he has driven straight trucks for 5 years, accumulating 125,000 miles and tractor-trailer combinations for 1 year accumulating 500 miles. He holds a Class A CDL from New York. His driving record for the last 3 years shows no crashes and no convictions for moving violations in a CMV.

David L. Botkins

Mr. Botkins, 58, has had corneal scar and amblyopia in his right eye since 1961. The visual acuity in his right eye is count-finger vision and in his left eye, 20/20. Following an examination in 2010, his optometrist noted, “Mr. Botkins has sufficient vision to perform the driving tasks required to operate a commercial vehicle.” Mr. Botkins reported that he has driven straight trucks for 33 years, accumulating 57,750 miles. He holds a Class D operator's license from New York. His driving record for the last 3 years shows no crashes and no convictions for moving violations in a CMV.

Richard D. Flaherty

Mr. Flaherty, 50, has had a prosthetic right eye since 1999. The best corrected visual acuity in his right eye is 20/15. Following an examination in 2010, his ophthalmologist noted, “In my medical opinion Doug Flaherty has excellent vision in his remaining eye OS to safely operate a commercial vehicle.” Mr. Flaherty reported that he has driven straight trucks for 15 years, accumulating 390,000 miles and tractor-trailer combinations for 15 years accumulating 615,000 miles. He holds a Class A CDL from New Mexico. His driving record for the last 3 years shows no crashes and no convictions for moving violations in a CMV.

Michael R. Holmes

Mr. Holmes, 61, has had ocular melanoma in his right eye since 2003. The best corrected visual acuity in his right eye is Light perception and in his left eye, 20/20. Following an examination in 2010, his optometrist noted, “It is in my medical opinion that patient does have sufficient vision to perform the driving tasks required to operate a commercial vehicle.” Mr. Holmes reported that he has driven straight trucks for 39 years, accumulating 1.5 million miles and tractor-trailer combinations for 11 years accumulating 110,000 miles. He holds a Class A CDL from South Dakota. His driving record for the last 3 years shows no crashes and no convictions for moving violations in a CMV.

James W. Hoover

Mr. Hoover, 44, has had amblyopia in his right eye since childhood. The best corrected visual acuity in his right eye is 20/60 and in his left eye, 20/20. Following an examination in 2010, his optometrist noted, “With his level of vision and visual field I feel he has adequate vision to drive commercially.” Mr. Hoover reported that he has driven straight trucks for 18 years, accumulating 270,000 miles. He holds a Class A CDL from Pennsylvania. His driving record for the last 3 years shows no crashes and no convictions for moving violations in a CMV.

Mark C. Jeffrey

Mr. Jeffrey, 61, has had a central retinal vein occlusion in his right eye since 2005. The best corrected visual acuity in his right eye is 20/200 and in his left eye, 20/20. Following an examination in 2010, his ophthalmologist noted, “In my medical opinion Mr. Mark Jeffrey has sufficient vision to perform the driving tasks required to operate a commercial vehicle.” Mr. Jeffrey reported that he has driven straight trucks for 35 years, accumulating 8,750 miles and tractor-trailer combinations for 30 years, accumulating 2.1 million miles. He holds a Class A CDL from Montana. His driving record for the last 3 years shows no crashes and no convictions for moving violations in a CMV.

Paul J. Jones

Mr. Jones, 45, has had complete loss of vision in his right eye since birth. The best corrected visual acuity in his right eye is No light perception and in his left eye, 20/20. Following an examination in 2010, his ophthalmologist noted, “I certify that in my opinion Mr. Jones' vision is sufficient to perform his driving tasks of a commercial vehicle.” Mr. Jones reported that he has driven straight trucks for 24 years, accumulating 210,000 miles. He holds a Class B CDL from New York. His driving record for the last 3 years shows no crashes and no convictions for moving violations in a CMV.

Pedro G. Limon

Mr. Limon, 39, has had amblyopia and aphakic in his right eye for 35 years. The best corrected visual acuity in his right eye is 20/200 and in his left eye, 20/20. Following an examination in 2010, his ophthalmologist noted, “In my opinion Mr. Limon has sufficient vision to perform the duties to operate a commercial vehicle safely.” Mr. Limon reported that he has driven straight trucks for 6 years, accumulating 280,800 miles. He holds a Class C operator's license from Texas. His driving record for the last 3 years shows no crashes and no convictions for moving violations in a CMV.

William G. Marshall

Mr. Marshall, 56, has had amblyopia in his left eye since birth. The best corrected visual acuity in his right eye is 20/20 and in his left eye, 20/400. Following an examination in 2010, his optometrist noted, “In my medical opinion Mr. William Marshall has sufficient vision to perform the driving tasks required to operate a commercial vehicle.” Mr. Marshall reported that he has driven straight trucks for 23 years, accumulating 851,000 miles and tractor-trailer combinations for 20 years, accumulating 300,000 miles. He holds a Class A CDL from Florida. His driving record for the last 3 years shows no crashes and no convictions for moving violations in a CMV.

Timothy S. Moore

Mr. Moore, 35, has had amblyopia in his right eye since childhood. The visual acuity in his right eye is 20/300 and in his left eye, 20/20. Following an examination in 2010, his ophthalmologist noted, “I believe that Mr. Moore has sufficient vision to perform the driving tasks required to operate a commercial vehicle.” Mr. Moore reported that he has driven tractor trailer combinations for 4 years, accumulating 200,000 miles. He holds a Class A CDL from Washington. His driving record for the last 3 years shows no crashes and no convictions for moving violations in a CMV.

Kenneth H. Morris

Mr. Morris, 42, has had prosthetic left eye since childhood. The visual acuity in his right eye is 20/20. Following an examination in 2010, his optometrist noted, “He has sufficient vision to drive a commercial vehicle.” Mr. Morris reported that he has driven straight trucks for 18 years, accumulating 72,000 miles, tractor trailer combinations for 18 years, accumulating 72,000 miles, and buses for 3 years, accumulating 9,000 miles. He holds a Class A CDL from North Carolina. His driving record for the last 3 years shows no crashes and no convictions for moving violations in a CMV.

Shelby V. Nicholson

Mr. Nicholson, 58, has had amblyopia in his left eye since childhood. The best corrected visual acuity in his right eye is 20/20 and in his left eye, 20/100. Following an examination in 2010, his optometrist noted, “It is my medical opinion that visually Mr. Nicholson is more than capable of performing the tasks required by him in operating a commercial vehicle.”

Mr. Nicholson reported that he has driven straight trucks for 24 years, accumulating 2 million miles and tractor trailer combinations for 27 years, accumulating 2.7 million miles. He holds a Class A CDL from Kentucky. His driving record for the last 3 years shows no crashes and no convictions for moving violations in a CMV.

Tracy J. Omeara

Mr. Omeara, 46, has had dense cataract and retinal damage in his left eye due to an injury sustained 22 years ago. The visual acuity in his right eye is 20/20 and in his left eye, count-finger vision. Following an examination in 2010, his ophthalmologist noted, “In my opinion, Mr. Omeara has adequate vision to perform the driving tasks required to operate a commercial vehicle.” Mr. Omeara reported that he has driven tractor trailer combinations for 3 years, accumulating 53,481 miles. He holds a Class A CDL from Oregon. His driving record for the last 3 years shows no crashes and no convictions for moving violations in a CMV.

Gary W. Pope

Mr. Pope, 43, has had complete loss of vision in his left eye due to an infection since childhood. The best corrected visual acuity in his right eye is 20/20. Following an examination in 2010, his optometrist noted, “In my professional opinion since Gary has had this condition since early childhood, he is very well adapted and functional to drive a commercial vehicle.” Mr. Pope reported that he has driven straight trucks for 13 years, accumulating 468,000 miles. He holds a Class R operator's license from Colorado. His driving record for the last 3 years shows no crashes and no convictions for moving violations in a CMV.

George D. Ruth

Mr. Ruth, 56, has had amblyopia in his left eye since birth. The best corrected visual acuity in his right eye is 20/25 and in his left eye, 20/200. Following an examination in 2010, his optometrist noted, “Mr. Ruth's vision seems sufficient to continue to operate a commercial vehicle.” Mr. Ruth reported that he has driven straight trucks for 35 years, accumulating 1.7 million miles and tractor trailer combinations for 35 years, accumulating 1.7 million miles. He holds a Class A CDL from Pennsylvania. His driving record for the last 3 years shows no crashes and no convictions for moving violations in a CMV.

Benjamin Stone

Mr. Stone, 38, has had amblyopia in his left eye due to an injury 34 years ago. The visual acuity in his right eye is 20/25 and in his left eye, 20/400. Following an examination in 2010, his optometrist noted, “In my medical opinion Benjamin Stone has sufficient vision to perform the driving tasks required to operate a commercial vehicle.” Mr. Stone reported that he has driven straight trucks for 3 years, accumulating 191,400 miles. He holds a Class B CDL from Virginia. His driving record for the last 3 years shows no crashes and no convictions for moving violations in a CMV.

James H. Wallace, Sr.

Mr. Wallace, 42, has had amblyopia in his left eye since birth. The best corrected visual acuity in his right eye is 20/20 and in his left eye, 20/400. Following an examination in 2010, his optometrist noted, “In my medical opinion, I believe Mr. James Wallace, Sr., has sufficient vision to continue to perform the driving tasks required to operate a commercial vehicle.” Mr. Wallace reported that he has driven straight trucks for 3 years, accumulating 600,000 miles and tractor trailer combinations for 7 years, accumulating 525,000 miles. He holds a Class A CDL from Florida. His driving record for the last 3 years shows no crashes and no convictions for moving violations in a CMV.

Ronald C. Wolfe

Mr. Wolfe, 74, has had macular degeneration in his right eye since 1987. The visual acuity in his right eye is 20/400 and in his left eye, 20/30. Following an examination in 2010, his ophthalmologist noted, “I certify that in my medical opinion that he has sufficient vision to continue to perform driving tasks required to operate a commercial vehicle.” Mr. Wolfe reported that he has driven straight trucks for 54 years, accumulating 29,700 miles and tractor trailer combinations for 52 years, accumulating 13,000 miles. He holds a Class A CDL from Pennsylvania. His driving record for the last 3 years shows no crashes and no convictions for moving violations in a CMV.

Request for Comments

In accordance with 49 U.S.C. 31136(e) and 31315, FMCSA requests public comment from all interested persons on the exemption petitions described in this notice. The Agency will consider all comments received before the close of business March 14, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: January 31, 2011.
Larry W. Minor,
Associate Administrator, Office of Policy.

[FR Doc. 2011-2983 Filed 2-10-11; 8:45 am]

BILLING CODE 4910-EX-P